DEPARTMENT OF COMMERCE

International Trade Administration

[A-552-802]

Certain Frozen Warmwater Shrimp From the Socialist Republic of Vietnam: Preliminary Results of Antidumping Duty Administrative Review; 2017-2018

AGENCY: Enforcement and Compliance, International Trade Administration, Department of Commerce.

SUMMARY: The Department of Commerce (Commerce) preliminarily determines that sales of certain frozen warmwater shrimp (shrimp) from the Socialist Republic of Vietnam (Vietnam) by Fimex VN and Nha Trang Seaproduct Company were not made at prices below normal value (NV). Interested parties are invited to comment on these preliminary results.

DATES: Applicable April 22, 2019.

FOR FURTHER INFORMATION CONTACT: Irene Gorelik or Josh Simonidis, AD/CVD Operations, Office VIII, Enforcement and Compliance, International Trade Administration, Department of Commerce, 1401 Constitution Avenue NW, Washington, DC 20230; telephone: (202) 482-6905 or (202) 482-0608, respectively.

SUPPLEMENTARY INFORMATION:

Background

In response to requests from interested parties, Commerce is conducting an administrative review of the antidumping duty order on certain frozen warmwater shrimp from the Socialist Republic of Vietnam (Vietnam) which it initiated on April 16, 2018.¹ The period of review (POR) is February 1, 2017, through January 31, 2018. On August 9, 2018, we rescinded the review with respect to Soc Trang Seafood Joint Stock Company and Seavina Joint Stock Company.² Commerce exercised its discretion to toll all deadlines affected by the partial federal government closure from December 22, 2018, through the resumption of operations on January 29, 2019.³ Accordingly, the revised deadline for these preliminary results is now April 9, 2019.

¹ See Initiation of Antidumping and Countervailing Duty Administrative Reviews, 83 FR 16298 (April 16, 2018) (Initiation Notice).

² See Certain Frozen Warmwater Shrimp from the Socialist Republic of Vietnam: Partial Rescission of Antidumping Duty Administrative Review; 2017-2018, 83 FR 39411 (August 9, 2018).

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise subject to the Order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, available in the Preliminary Decision Memorandum, remains dispositive.⁴

⁴ For a complete description of the Scope of the Order, see Memorandum to Gary Taverman, Deputy Assistant Secretary for Antidumping and Countervailing Duty Operations performing the non-exclusive functions of the Assistant Secretary for Enforcement and Compliance, from James Maeder, Associate Deputy Assistant Secretary for Antidumping and Countervailing Duty Operations performing the duties of Deputy Assistant Secretary for Antidumping and Countervailing Duty Operations, titled “Decision Memorandum for Preliminary Results of Antidumping Duty Administrative Review: Certain Frozen Warmwater Shrimp from the Socialist Republic of Vietnam; 2016-2017,” dated concurrently with, and adopted by, this notice (Preliminary Decision Memorandum).

Methodology

Commerce is conducting this review in accordance with section 751(a)(1)(A) of the Tariff Act of 1930, as amended (the Act). Export prices and constructed export prices were calculated in accordance with section 772 of the Act. Because Vietnam is a non-market economy within the meaning of section 771(18) of the Act, NV was calculated in accordance with section 773(c) of the Act.

For a full description of the methodology underlying our conclusions, see Preliminary Decision Memorandum. The Preliminary Decision Memorandum is a public document and is on file electronically via the Enforcement and Compliance's Antidumping and Countervailing Duty Centralized Electronic Service System (ACCESS). ACCESS is available to registered users at http://access.trade.gov and in the Central Records Unit, Room B8024 of the main Department of Commerce building. In addition, a complete version of the Preliminary Decision Memorandum can be accessed directly on the internet at http://enforcement.trade.gov/frn/. The signed Preliminary Decision Memorandum and the electronic version of the Preliminary Decision Memorandum are identical in content.

Preliminary Determination of No Shipments

Based on our analysis of information from Customs and Border Protection (CBP) and information provided by 18 companies, we preliminarily determine that these 18 companies ⁵ subject to this review did not have any reviewable transactions during the POR. Commerce finds, consistent with its assessment practice in non-market economy cases, that it is appropriate not to rescind the review in part in these circumstances, but to complete the review with respect to these 18 companies and issue appropriate instructions to CBP based on the final results of the review.⁶ For additional information regarding this determination, see the Preliminary Decision Memorandum.

⁵ These 18 companies are: (1) Au Vung One Seafood Processing Import & Export Joint Stock Company; (2) Au Vung Two Seafood Processing Import & Export Joint Stock Company; (3) Bien Dong Seafood Co., Ltd.; (4) BIM Foods Joint Stock Company also initiated as BIM Seafood Joint Stock Company; (5) Cafatex Corporation; (6) Xi Nghiep Che Bien Thuy Suc San Xuat Kau Cantho; (7) Taydo Seafood Enterprise (8) Cam Ranh Seafoods (9) Green Farms Joint Stock Company also initiated as Green Farms Seafoods Joint Stock Company; (10) Investment Commerce Fisheries Corporation (“INCOMFISH”) also initiated as Investment Commerce Fisheries Corporation (Incomfish); (11) Khanh Sung Co., Ltd.; (12) NGO BROS Seaproducts Import-Export One Member Company Limited (“NGO BROS Company”) also initiated as Ngo Bros Seaproducts Import-Export One Member Company Limited (“Ngo Bros. Co., Ltd.”), and Ngo Bros Seaproducts Import-Export One Member Company Limited (Ngo Bros); (13) Tacvan Frozen Seafood Processing Export Company also initiated as Tacvan Frozen Seafood Processing Export Company (Tacvan Seafoods Co.) and Tacvan Seafoods Company (“TACVAN”); (14) Thanh Doan Sea Products Import & Export Processing Joint Stock Company Thadimexco also initiated as Thanh Doan Sea Products Import & Export Processing Joint-Stock Company (THADIMEXCO); (15) Thong Thuan—Cam Ranh Seafood Joint Stock Company also initiated as Thong Thuan—Cam Ranh Seafood Joint Stock Company (T&T Cam Ranh) and Thong Thuan Cam Ranh Seafood Joint Stock Company (“T&T Cam Ranh”); (16) Thong Thuan Seafood Company Limited; (17) Trung Son Seafood Processing Joint Stock Company also initiated as Trung Son Corp.; and (18) Vinh Hoan Corp.

⁶ See Non-Market Economy Antidumping Proceedings: Assessment of Antidumping Duties, 76 FR 65694 (October 24, 2011) (NME AD Assessment); see also “Assessment Rates” section below.

Commerce finds that 67 companies (see Appendix II) for which a review was requested have not established eligibility for a separate rate and are considered to be part of the Vietnam-wide entity for these preliminary results.⁷ Because no party requested a review of the Vietnam-wide entity, the entity is not under review and the entity's rate of 25.76 percent is not subject to change.⁸

⁷ See Appendix II for a full list of the 30 companies (accounting for duplicate names initiated upon; see also Preliminary Decision Memorandum, at 12-13.

⁸ See Antidumping Proceedings: Announcement of Change in Department Practice for Respondent Selection in Antidumping Duty Proceedings and Conditional Review of the Nonmarket Economy Entity in NME Antidumping Duty Proceedings, 78 FR 65963 (November 4, 2013). Commerce's policy regarding conditional review of the Vietnam-wide entity applies to this administrative review. Under this policy, the Vietnam-wide entity will not be under review unless a party specifically requests, or Commerce self-initiates, a review of the entity.

Preliminary Results of Review

For companies for which a review was requested and that have established eligibility for a separate rate, Commerce preliminarily determines that the following weighted-average dumping margins exist:

Exporter ⁹ | Weighted- average margin (percent)
Fimex VN, aka Sao Ta Foods Joint Stock Company | 0.00
Nha Trang Seaproduct Company,¹⁰ NT Seafoods Corporation, Nha Trang Seafoods—F89 Joint Stock Company, and NTSF Seafoods Joint Stock Company | 0.00
Bac Lieu Fisheries Joint Stock Company | 0.00
Bentre Forestry and Aquaproduct Import-Export Joint Stock Company, aka FAQUIMEX | 0.00
C.P. Vietnam Corporation | 0.00
Cadovimex Seafood Import-Export and Processing Joint Stock Company | 0.00
Camau Frozen Seafood Processing Import Export Corporation, aka Camimex | 0.00
Camau Seafood Processing and Service Joint Stock Corporation, aka Camau Seafood Processing and Service Joint-Stock Corporation, aka CASES | 0.00
Can Tho Import Export Fishery Limited Company, aka CAFISH | 0.00
Cuulong Seaproducts Company, aka Cuulong Seapro | 0.00
Fine Foods Co, aka FFC | 0.00
Frozen Seafoods Factory No. 32 | 0.00
Hai Viet Corporation, aka HAVICO | 0.00
Kim Anh Company Limited | 0.00
Minh Hai Export Frozen Seafood Processing Joint-Stock Company, aka Minh Hai Jostoco | 0.00
Minh Hai Joint-Stock Seafood Processing Company, aka Sea Minh Hai, aka Seaprodex Minh Hai, aka Minh Hai Joint Stock Seafoods | 0.00
Ngoc Tri Seafood Joint Stock Company | 0.00
Q N L Company Limited | 0.00
Quoc Viet Seaproducts Processing Trading and Import-Export Co., Ltd | 0.00
Seaprimexco Vietnam, aka Seaprimexco | 0.00
Seafoods and Foodstuff Factory | 0.00
Taika Seafood Corporation | 0.00
Thong Thuan Company Limited | 0.00
Thuan Phuoc Seafoods and Trading Corporation | 0.00
Trang Khanh Trading Company Limited, aka Trang Khanh Seafood Co., Ltd | 0.00
Trong Nhan Seafood Company Limited | 0.00
UTXI Aquatic Products Processing Corporation | 0.00
Viet Foods Co., Ltd | 0.00
Viet I-Mei Frozen Foods Co., Ltd | 0.00
Vietnam Fish One Co., Ltd | 0.00
Vietnam Clean Seafood Corporation, aka Vina Cleanfood, aka Viet Nam Clean Seafood Corporation | 0.00

Disclosure and Public Comment

⁹ Due to the issues we have had in past segments of the proceeding with variations of exporter names related to this Order, we remind exporters that the names listed in the rate box are the exact names, including spelling and punctuation, which Commerce will provide to CBP and which CBP will use to assess POR entries and collect cash deposits. Any names with punctuation variations, such as all capitalizations, dashes, periods, or commas, or abbreviations of the word Company to “Co.” and Limited to “Ltd.” can be confirmed by Commerce in the event CBP inquires about such variations. Commerce reminds interested parties that claimed affiliates are not automatically added to an exporter's rate box unless Commerce has made a collapsing determination for that exporter in the instant, or in prior, segments of the proceeding. Furthermore, inclusion of alternate trade names in an exporter's rate box must be supported by evidence on the record that the alternate trade name: 1) Appears on the exporter's business license (as an exporter), and 2) appears on commercial documents for CBP's examination upon entry. See, e.g., Certain Frozen Warmwater Shrimp from the Socialist Republic of Vietnam: Final Results of Antidumping Duty Administrative Review, 2016-2017, 83 FR 46704 (September 14, 2018), and accompanying Issues and Decision Memorandum at Comment 3.

¹⁰ Commerce previously determined Nha Trang Seaproduct Company to be part of a single entity along with NT Seafoods Corporation, Nha Trang Seafoods—F89 Joint Stock Company, and NTSF Seafoods Joint Stock Company. See Certain Frozen Warmwater Shrimp From the Socialist Republic of Vietnam: Preliminary Results, Partial Rescission, and Request for Revocation, In Part, of the Fifth Administrative Review, 76 FR 12054, 12056 (March 4, 2011), unchanged in Certain Frozen Warmwater Shrimp From the Socialist Republic of Vietnam: Final Results and Final Partial Rescission of Antidumping Duty Administrative Review, 76 FR 56158 (September 12, 2011). As the single entity has not reported changes since the preceding administrative review regarding the corporate or legal structure of the companies within the single entity, we continue to find that these companies are affiliated and comprise a single entity to which we will assign a single rate.

Commerce will disclose the calculations used in our analysis to parties in this review within five days of the date of publication of this notice. Interested parties are invited to comment on the preliminary results of this review. Pursuant to 19 CFR 351.309(c)(1)(ii), interested parties may submit case briefs no later than 30 days after the publication of these preliminary results, and rebuttal comments within five days after the time limit for filing case briefs, unless these deadlines are extended at a later date. Parties who submit case briefs or rebuttal briefs are requested to submit with the argument: (1) A statement of the issue; (2) a brief summary of the argument; and (3) a table of authorities.¹¹ Rebuttal briefs must be limited to issues raised in the case briefs.¹²

¹¹ See 19 CFR 351.309(c) and (d).

¹² See 19 CFR 351.309(d)(2).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.¹³ Parties should confirm by telephone the date, time, and location of the hearing two days before the scheduled date.

¹³ See 19 CFR 351.310(d).

Commerce intends to issue the final results of this administrative review, including the results of our analysis of issues raised in the written comments, within 120 days of publication of these preliminary results in the Federal Register, unless this deadline is extended.

Assessment Rates

Upon issuance of the final results, Commerce will determine, and CBP shall assess, antidumping duties on all appropriate entries covered by this review.¹⁴ Commerce intends to issue assessment instructions to CBP 15 days after the publication date of the final results of this review. For any individually examined respondent whose weighted-average dumping margin is above de minimis (i.e., is 0.50 percent or more) in the final results of this review, Commerce will calculate importer-specific assessment rates on the basis of the ratio of the total amount of dumping calculated for the importer's examined sales and the total entered value of those sales, in accordance with 19 CFR 351.212(b)(1).¹⁵ We will instruct CBP to assess antidumping duties on all appropriate entries covered by this review when the importer-specific assessment rate calculated in the final results of this review is above de minimis. Where a respondent's weighted-average dumping margin is zero or de minimis, or an importer-specific assessment rate is zero or de minimis, we will instruct CBP to liquidate the appropriate entries without regard to antidumping duties.

¹⁴ See 19 CFR 351.212(b).

¹⁵ In these preliminary results, Commerce applied the assessment rate calculation method adopted in Antidumping Proceedings: Calculation of the Weighted-Average Dumping Margin and Assessment Rate in Certain Antidumping Proceedings; Final Modification, 77 FR 8101 (February 14, 2012).

For the respondents that were not selected for individual examination in this administrative review but qualified for a separate rate, the assessment rate will be equal to the average of the weighted-average dumping margins calculated for the mandatory respondents consistent with section 735(c)(5)(B) of the Act. The weighted-average dumping margins calculated for both mandatory respondents in this review are 0.00 percent. Consequently, the rate preliminarily established for the non-individually examined companies is an ad valorem rate of 0.00 percent.

For entries that were not reported in the U.S. sales database submitted by the two mandatory respondents during this review, Commerce will instruct CBP to liquidate such entries at the Vietnam-wide rate. In addition, if we continue to find in the final results no shipments for the companies identified in the “Preliminary Determination of No Shipments” section above, Commerce will instruct CBP to liquidate any suspended entries of subject merchandise that entered under those companies' case numbers at the Vietnam-wide rate.¹⁶

¹⁶ For a full discussion of this practice, see NME AD Assessment.

For the final results, if we continue to treat the 67 companies identified in Appendix II as part of the Vietnam-wide entity, we will instruct CBP to apply an ad valorem assessment rate of 25.76 percent to all entries of subject merchandise during the POR which were produced and/or exported by those companies.

The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be the existing rate for the Vietnam-wide entity of 25.76 percent; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

This determination is issued and published in accordance with sections 751(a)(1) and 777(i)(1) of the Act and 19 CFR 351.221(b)(4).

Dated: April 8, 2019.
Gary Taverman,
Deputy Assistant Secretary for Antidumping and Countervailing Duty Operations, performing the non-exclusive functions and duties of the Assistant Secretary for Enforcement and Compliance.

Appendix I

List of Topics Discussed in the Preliminary Decision Memorandum

I. Summary

II. Background

III. Scope of the Order

IV. Discussion of the Methodology

A. Preliminary Determination of No Shipments

B. Non-Market Economy Country

1. Separate Rates

2. Vietnam-Wide Entity

C. Surrogate Country and Surrogate Values

1. Economic Comparability

2. Significant Producer of Comparable Merchandise

3. Data Availability

D. Date of Sale

E. Fair Value Comparisons

1. Determination of Comparison Method

2. Results of the Differential Pricing Analysis

F. U.S. Price

G. Normal Value

H. Factor Valuation Methodology

V. Currency Conversion

VI. Conclusion

Appendix II

Companies Subject To Review Determined To Be Part of the Vietnam-Wide Entity

1. A & CDN Foods Co., Ltd.

2. Amanda Seafood Co., Ltd.

3. An Huy B.T Co. Ltd.

4. Anh Koa Seafood

5. Anh Minh Quan Joint Stock Company

6. Asia Food Stuffs Import Export Co., Ltd.

7. B.O.P Company Limited

8. B.O.P. Limited Co.

9. Binh Dong Fisheries Joint Stock Company

10. Binh Thuan Import—Export Joint Stock Company (THAIMEX)

11. Ca Mau Agricultural Products and Foodstuff Imp-Exp Joint Stock Company (Agrimexco Camau)

12. Cholimex Food Joint Stock Company

13. CJ Cau Tre Foods Joint Stock Company

14. CJ Freshway (FIDES Food System Co., Ltd.)

15. Coastal Fisheries Development Corporation (“COFIDEC”)

16. Danang Seaproducts Import-Export Corporation (SEADANANG)

17. Dong Do Profo., Ltd.

18. Dong Hai Seafood Limited Company

19. Dong Phuong Seafood Co., Ltd.

20. Duc Cuong Seafood Trading Co., Ltd.

21. Gallant Dachan Seafood Co., Ltd.

22. Gallant Ocean (Vietnam) Co., Ltd. also initiated as Gallant Ocean Viet Nam Co. Ltd.

23. Hanh An Trading Service Co., Ltd.

24. Hanoi Seaproducts Import & Export Joint Stock Corporation (Seaprodex Hanoi)

25. Hoa Trung Seafood Corporation (HSC)

26. Hoang Phuong Seafood Factory

27. HungHau Agricultural Joint Stock Company

28. Huynh Huong Seafood Processing

29. Huynh Huong Trading and Import-Export Joint Stock Company

30. JK Fish Co., Ltd.

31. Kaiyo Seafood Joint Stock Company

32. Khai Minh Trading Investment Corporation

33. Khanh Hoa Seafoods Exporting Company (KHASPEXCO)

34. Lam Son Import-Export Foodstuff Company Limited (Lamson Fimexco)

35. Long Toan Frozen Aquatic Products Joint Stock Company

36. Minh Bach Seafood Company Limited

37. Minh Cuong Seafood Import Export Processing Joint Stock Company (“MC Seafood”), also initiated as Minh Cuong Seafood Import-Export Processing (“MC Seafood”)

38. Minh Phu Seafood Corporation

39. My Son Seafoods Factory

40. Nam Hai Foodstuff and Export Company Ltd

41. Namcan Seaproducts Import Export Joint Stock Company (Seanamico)

42. New Wind Seafood Co., Ltd.

43. Nha Trang Fisheries Joint Stock Company, also initiated as Nha Trang Fisheries Joint Stock Company (“Nha Trang Fisco”)

44. Nhat Duc Co., Ltd.

45. Nigico Co., Ltd.

46. Phu Cuong Jostoco Corp., also initiated as Phu Cuong Jostoco Seafood Corporation

47. Phu Minh Hung Seafood Joint Stock Company

48. Phuong Nam Foodstuff Corp., also initiated as Phuong Nam Foodstuff Corp., Ltd.

49. Quang Minh Seafood Co., Ltd.

50. Quoc Ai Seafood Processing Import Export Co., Ltd.

51. Quoc Toan Seafood Processing Factory (Quoc Toan PTE)

52. Quy Nhon Frozen Seafoods Joint Stock Company

53. Saigon Aquatic Product Trading Joint Stock Company (APT Co.)

54. Saigon Food Joint Stock Company

55. Seafood Joint Stock Company No.4

56. South Ha Tinh Seaproducts Import-Export Joint Stock Company

57. Special Aquatic Products Joint Stock Company (SEASPIMEX VIETNAM)

58. T & P Seafood Company Limited

59. Tai Nguyen Seafood Co., Ltd.

60. Tan Phong Phu Seafood Co., Ltd. (“TPP Co., Ltd.”) also initiated as Tan Phong Phu Seafood Co., Ltd. (TPP Co. Ltd.)

61. Tan Thanh Loi Frozen Food Co., Ltd.

62. Thien Phu Export Seafood Processing Company Limited

63. Thinh Hung Co., Ltd.

64. Trang Corporation (Vietnam)

65. Trang Khan Seafood Co., Ltd.

66. Viet Nam Seaproducts—Joint Stock Company

67. Viet Phu Foods and Fish Corp.

[FR Doc. 2019-08135 Filed 4-19-19; 8:45 am]

BILLING CODE 3510-DS-P